DEPARTMENT OF THE INTERIOR

Bureau of Land Management

[NV-010-1430-FM; N-74293]

Termination of Segregation, Exchange N-74293; Nevada

AGENCY: Bureau of Land Management, Interior.

ACTION: Notice of termination of segregation.

SUMMARY: This action terminates a portion of the segregation of the Exchange Proposal N-74293 initiated by Nevada Land and Resource Company, LLC. The land will be opened to the operation of the public land laws, including location and entry under the mining laws.

EFFECTIVE DATE: July 21, 2003.

FOR FURTHER INFORMATION CONTACT: Helen Hankins, Elko Field Office, 3900 E. Idaho St., Elko, Nevada 89801, 775-753-0200.

SUPPLEMENTARY INFORMATION: On May 4, 2001, the land described below was segregated as to a proposed exchange with Nevada Land and Resource Company, LLC. The exchange is no longer being pursued on the following lands identified below.

The segregative effect is hereby terminated for the following described land:

Mount Diablo Meridian, Nevada

T. 33 N., R. 45 E.,

Section 24, All

Section 26, All

The area described contains 1,280.00 acres in Lander County.

1. At 9 a.m., on July 21, 2003, the land described above will be opened to the operation of the public land laws, subject to valid existing rights, the provisions of existing withdrawls, other segregations of record, and the requirements of applicable law. All valid applications received at or prior to 9 a.m. July 21, 2003, shall be considered as simultaneously filed at that time. Those received thereafter shall be considered in the order of filing.

2. At 9 a.m. on July 21, 2003, the land described above will be opened to location and entry under the United States mining laws, subject to valid existing rights, the provisions of existing withdrawls, other segregations of record, and the requirements of applicable law. Appropriation of any of the land described in this order under the general mining laws prior to the date and time of segregation is unauthorized. Any such attempted appropriation, including attempted adverse possession under 30 U.S.C. 39 (1994), shall vest no rights against the United States. Acts required to establish a location and to initiate a right of possession are governed by State law where not in conflict with Federal law. The Bureau of Land Management will not intervene in disputes between rival locators over possessory rights since Congress has provided for such determinations in local courts.

Dated: March 31, 2003.
Helen Hankins,
Elko Field Office Manager.

[FR Doc. 03-12514 Filed 5-19-03; 8:45 am]

BILLING CODE 4310-HC-P